Title 3—

The President

Memorandum of January 25, 2007

Assignment of Functions Under the Darfur Peace and

Accountability Act of 2006

Memorandum for the Secretary of State

By the authority vested in me as President by the Constitution and laws of the United States, including section 301 of title 3, United States Code, I hereby assign to you the functions of the President under sections 6(a), 6(b), and 6(f) of the Darfur Peace and Accountability Act of 2006 (Public Law 109-344). In performing such functions, you shall consult with other heads of departments and agencies, as appropriate.

You are authorized and directed to publish this memorandum in the Federal Register.

THE WHITE HOUSE,

Washington, January 25, 2007.

[FR Doc. 07-512

Filed 2-2-07; 8:45 am]

Billing code 4710-10-P